DEPARTMENT OF HOMELAND SECURITY

Federal Emergency Management Agency

[Docket ID FEMA-2009-0001; OMB No. 1660-0025]

Agency Information Collection Activities: Submission for OMB Review; Comment Request; FEMA Grants Administration/Non-Disaster (ND) Grants System

AGENCY: Federal Emergency Management Agency, DHS.

ACTION: Notice; 30-day notice and request for comments; revision of a currently approved information collection; OMB No. 1660-0025; FEMA Form 112-0-2, Budget Information—Construction; 112-0-3, 112-0-3A, 112-0-3B, 112-0-3C, Summary Sheet for Assurances and Certifications; 112-0-4, Outlay Report and Request for Reimbursement for Construction Program; 112-0-5, Report of Government Property; 112-0-6, Reconciliation of Grants and Cooperative Agreements; 112-0-8, Budget Information—Non-construction; 112-0-7, Obligating Document for Award/Amendment; 089-9, Detailed Budget Worksheet.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before August 2, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections-Management@dhs.gov.

SUPPLEMENTARY INFORMATION:

Collection of Information

Title: FEMA Grants Administration/Non-Disaster (ND) Grants System.

Type of information collection: Revision of a currently approved information collection.

OMB Number: 1660-0025.

Form Titles and Numbers: FEMA Form 112-0-2, Budget Information—Construction; 112-0-3, 112-0-3A, 112-0-3B, 112-0-3C, Summary Sheet for Assurances and Certifications; 112-0-4, Outlay Report and Request for Reimbursement for Construction Program; 112-0-5, Report of Government Property; 112-0-6, Reconciliation of Grants and Cooperative Agreements; 112-0-8, Budget Information—Non-construction; 112-0-7, Obligating Document for Award/Amendment; 089-9, Detailed Budget Worksheet. The form numbers have been changed since publication of the 60-day Federal Register Notice at 74 FR 59217, Nov. 17, 2009.

Abstract: The grant programs included in this collection are important tools among a comprehensive set of measures to help strengthen the Nation against risk associated with potential terrorist attacks, natural and other disasters, as well as to plan and implement mitigation efforts to lessen or alleviate such occurrences. FEMA uses the information to evaluate applications for grants for various disaster related and non-disaster grant opportunities which it administers. FEMA is also implementing the use of the ND Grants System to electronically accept grant applications from a subset of all non-disaster grants currently administered by FEMA with the intention of expanding this function to other non-disaster grants as soon as possible.

Affected Public: State, local or Tribal governments; Not-for-profit institutions; Business or other for-profit.

Estimated Number of Respondents: 6,272.

Frequency of Response: On Occasion.

Estimated Average Hour Burden per Respondent: 347.23 Hours.

Estimated Total Annual Burden Hours: 2,177,847 Hours. The total estimated annual hour burden has increased since publication of the 60-day Federal Register Notice at 74 FR 59217, Nov. 17, 2009.

Estimated Cost: There is no annual reporting or recordkeeping costs associated with this collection.

Dated: June 28, 2010.
Tammi Hines,
Acting Director, Records Management Division, Mission Support Bureau, Federal Emergency Management Agency, Department of Homeland Security.

[FR Doc. 2010-16051 Filed 6-30-10; 8:45 am]

BILLING CODE 9111-78-P